SECURITIES AND EXCHANGE COMMISSION

In the Matter of Paivis Corp., Peabodys Coffee, Inc., Penge Corp., Petrol Industries, Inc. (n/k/a Caddo International, Inc.), Phantom Entertainment, Inc., Phoenix Medical Technology, Inc., Phoenix Metals USA II, Inc. (a/k/a TM Media Group, Inc.), Phymed, Inc., Pico Products, Inc., and Piemonte Foods, Inc.; File No. 500-1; Order of Suspension of Trading

June 24, 2009.

It appears to the Securities and Exchange Commission that there is a lack of current and accurate information concerning the securities of Paivis Corp. because it has not filed any periodic reports since the period ended June 30, 2007.

It appears to the Securities and Exchange Commission that there is a lack of current and accurate information concerning the securities of Peabodys Coffee, Inc. because it has not filed any periodic reports since the period ended December 31, 2004.

It appears to the Securities and Exchange Commission that there is a lack of current and accurate information concerning the securities of Penge Corp. because it has not filed any periodic reports since the period ended March 31, 2007.

It appears to the Securities and Exchange Commission that there is a lack of current and accurate information concerning the securities of Petrol Industries, Inc. (n/k/a Caddo International, Inc.) because it has not filed any periodic reports since the period ended September 30, 2005.

It appears to the Securities and Exchange Commission that there is a lack of current and accurate information concerning the securities of Phantom Entertainment, Inc. because it has not filed any periodic reports since the period ended March 31, 2007.

It appears to the Securities and Exchange Commission that there is a lack of current and accurate information concerning the securities of Phoenix Medical Technology, Inc. because it has not filed any periodic reports since the period ended July 2, 2000.

It appears to the Securities and Exchange Commission that there is a lack of current and accurate information concerning the securities of Phoenix Metals USA II, Inc. (a/k/a TM Media Group, Inc.) because it has not filed any periodic reports since the period ended December 31, 2001.

It appears to the Securities and Exchange Commission that there is a lack of current and accurate information concerning the securities of Phymed, Inc. because it has not filed any periodic reports since the period ended December 31, 1999.

It appears to the Securities and Exchange Commission that there is a lack of current and accurate information concerning the securities of Pico Products, Inc. because it has not filed any periodic reports since the period ended April 30, 1999.

It appears to the Securities and Exchange Commission that there is a lack of current and accurate information concerning the securities of Piemonte Foods, Inc. because it has not filed any periodic reports since the period ended February 27, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 24, 2009, through 11:59 p.m. EDT on July 8, 2009.

By the Commission.
Jill M. Peterson,
Assistant Secretary.

[FR Doc. E9-15253 Filed 6-24-09; 11:45 am]

BILLING CODE 8010-01-P